DEPARTMENT OF THE INTERIOR

Bureau of Land Management

[CA-180-1430-EU; CAS 056771]

Notice of Realty Action: Recreation and Public Purposes Classification Amendment; Calaveras County, CA

AGENCY: Bureau of Land Management, Interior.

ACTION: Notice of Realty Action.

SUMMARY: The County of Calaveras proposes to purchase under the Recreation and Public Purposes (R&PP) Act the Wilseyville landfill currently under R&PP lease CAS-056771-01. The R&PP conveyance proposal is for the existing landfill area, consisting of 12.5 acres. The 10 acre landfill area was classified for conveyance in the Federal Register, Vol. 62, No. 70, page 17853, on April 11, 1997. It was later discovered that the entrance gate to the transfer station was inadvertently located outside the original classified 10 acres. To remedy this situation, classification for conveyance under the R&PP Act is amended to add 2.5 acres to the 10 acre classification, for a total of 12.5 acres.

The 2.5 acres has been examined and found suitable for conveyance for recreational or public purposes under the provisions of the Recreation and Public Purposes Act, as amended (43 U.S.C. 869 et seq.).

FOR FURTHER INFORMATION CONTACT: You may contact Jodi Lawson at (916) 985-4474.

SUPPLEMENTARY INFORMATION: The following public land, located in Calaveras County, near the community of Wilseyville has been examined and found suitable for conveyance for recreational or public purposes under the provisions of the Recreation and Public Purposes Act, as amended (43 U.S.C. 869 et seq.).

T, 6 N., R. 13 E., M. D. M.,

Section 14, S½S½SW¼NW¼SW¼.

Containing 2.5 acres, more or less.

The land is not required for any federal purpose. The conveyance is consistent with current Bureau planning for this area and would be in the public interest. The patent, when issued, will be subject to the provisions of the Recreation and Public Purposes Act and applicable regulations of the Secretary of the Interior and will contain the following reservations to the United States:

1. A right-of-way thereon for ditches or canals constructed by the authority of the United States, Act of August 30, 1890 (43 U.S.C. 945).

2. All minerals shall be reserved to the United States.

3. Any other valid and existing rights of record not yet identified.

The land will be segregated from all other forms of appropriation under the public land laws, including the general mining laws and leasing under the mineral leasing laws, except for conveyance under the Recreation and Public Purposes Act on the date of publication in the Federal Register. For a period of 45 days from the date of publication in the Federal Register, interested persons may submit comments regarding the proposed classification for conveyance of the land to the Field Manager, Folsom Field Office Bureau of Land Management, 63 Natoma Street, Folsom, California.

Classification Comments: Interested parties may submit comments involving the suitability of the land for R&PP conveyance. Comments on the classification are restricted to whether the land is physically suited for the proposal, whether the use will maximize the future use or uses of the land, whether the use is consistent with local planning and zoning, or if the use is consistent with State and Federal programs.

Application Comments: Interested parties may submit comments regarding the specific use proposed in the application, whether the BLM followed proper administrative procedures in reaching the decision, or any other factor not directly related to the suitability of the land conveyance under R&PP.

Any adverse comments will be reviewed by the State Director. In the absence of any adverse comments, the classification will become effective 60 days from the date of publication in the Federal Register.

A plan of development for the Wilseyville Landfill is on file in the Folsom Field Office.

James M. Eicher,
Associate Field Manager.

[FR Doc. E8-13720 Filed 6-17-08; 8:45 am]

BILLING CODE 4310-40-P